GENERAL SERVICES ADMINISTRATION

[Notice—FAS-2013-02; Docket No. 2013-0002; Sequence 44]

Modernizing the Federal Supply Schedule Program: Order-Level Materials

AGENCY: Federal Acquisition Service, General Services Administration.

ACTION: Notice; request for information.

SUMMARY: The Federal Acquisition Service (FAS) of the General Services Administration (GSA) is seeking comments that can be used to assist in the development of processes and procedures for the inclusion of order-level materials under the Federal Supply Schedule (FSS) program. Though the acquisition of order-level materials is allowed under multiple-award Indefinite-Delivery/Indefinite-Quantity (IDIQ) contracts, FAS has yet to develop a clear mechanism for the procurement of these items under the FSS program. FAS is now taking steps to bring the FSS program into parity with other multiple-award IDIQ contract vehicles. This endeavor is a critical piece of a larger effort to modernize the FSS program as a whole, under which FAS aims to increase efficiency and effectiveness, facilitate the purchase of total solutions, maximize competition, and promote small business utilization across Government.

DATES: Comments: Interested parties should submit written comments to the Regulatory Secretariat at one of the addresses shown below on or before March 17, 2014.

ADDRESSES: Submit comments in response to Notice—FAS-2013-02 by any of the following methods:

• Regulations.gov: http://www.regulations.gov. Submit comments via the Federal eRulemaking portal by searching for “Notice—FAS-2013-02”. Select the link “Comment Now” that corresponds with “Notice—FAS-2013-02” and follow the instructions provided on the screen. Please include your name, company name (if any), and “Notice—FAS-2013-02” on your attached document.

• Mail: General Services Administration, Regulatory Secretariat (MVCB), ATTN: Ms. Flowers/Notice—FAS-2013-02, 1800 F Street NW., 2nd Floor, Washington, DC 20405-0001.

Instructions: Please submit comments only and cite Notice—FAS-2013-02, in all correspondence related to this case. All comments received will be posted without change to http://www.regulations.gov, including any personal and/or business confidential information provided.

FOR FURTHER INFORMATION CONTACT: Mr. Robert Bourne, GSA/FAS Director of MAS Program Office at (703) 605-2760.

SUPPLEMENTARY INFORMATION:

A. Background

The FSS program is one of many multiple-award IDIQ contract vehicles available Governmentwide. Though the acquisition of order-level materials is allowable under multiple-award IDIQ contracts, FAS has yet to develop a clear mechanism for the procurement of these items under the FSS program. This has resulted in an inability to fully realize the effective use of the FSS program across Government.

B. Solicitation of Public Comment

Respondents are encouraged to offer their views on the following questions:

1. Is the current lack of a clear mechanism for the procurement of order-level materials a deterrent from using the FSS program? If so, how?

2. What potential challenges exist for FAS where order-level materials and the FSS program are concerned? How can these be addressed?

3. What kinds of processes and procedures are in place for the procurement of order-level materials under other multiple-award IDIQ contract vehicles? Can these be applied to the FSS program as-is, or are there special considerations FAS needs to address? If possible, please provide specific examples from multiple-award IDIQ contract vehicles that could serve as a good example of the kind of processes and procedures needed for the efficient and effective use of order-level materials.

4. If FAS were to implement clear processes and procedures for the acquisition of order-level materials under the FSS program, is there the potential for administrative cost savings? If so, please elaborate.

5. If FAS were to implement clear processes and procedures for the acquisition of order-level materials under the FSS program, would it provide increased flexibility to contractors to provide total solutions to Government requirements? Are there any additional benefits for small businesses, in particular?

6. What kind of risk management controls are needed to ensure efficient and effective use of order-level materials under the FSS program?

Dated: January 8, 2014.
Houston W. Taylor,
Acting Senior Procurement Executive, General Services Administration.

[FR Doc. 2014-00456 Filed 1-13-14; 8:45 am]

BILLING CODE 6820-61-P